COMMISSION ON CIVIL RIGHTS

Sunshine Act Meetings

AGENCY: United States Commission on Civil Rights.

ACTION: Notice of briefing and business meeting.

DATE AND TIME: Friday, December 7, 2012; 9:00 a.m. EST.

PLACE: 1331 Pennsylvania Ave. NW., Suite 1150, Washington, DC 20425.

Briefing Agenda: 9:00 a.m.-2:00 p.m.

This briefing is open to the public.

Topic: Assessing the Impact of Criminal Background Checks and the Equal Employment Opportunity Commission's Conviction Records Policy on the Employment of Black and Hispanic Workers.

I. Introductory Remarks by Chairman

II. Panel I—9:00 a.m.-10:30 a.m.: Government & Scholars Panel Speakers' Remarks and Questions from Commissioners

III. Panel II—10:30 a.m.-12:00 p.m.: Business & Advocacy Groups Panel Speakers' Remarks and Questions from Commissioners

IV. LUNCH—12:00 p.m.-12:30 p.m.

V. Panel III—12:30 p.m.-2:00 p.m.: Trade Associations Panel Speakers' Remarks and Questions from Commissioners

VI. Adjourn Briefing

Meeting Agenda—2:00 p.m.

I. Approval of Agenda

II. Program Planning

• Update on the 2013 Statutory Enforcement Report—Sexual Assault in the Military

• Update on The Civil Rights Implications of Eminent Domain Abuse briefing

• Update on the Sex Trafficking: A Gender-Based Violation of Civil Rights briefing

III. Management and Operations

• Chief of Regional Programs' report

• OGC Training

IV. State Advisory Committee Issues

• Review of Proposed Charter for SACs

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: November 26, 2012.
David Mussatt,
Acting Chief, Regional Programs Coordination Unit.

[FR Doc. 2012-28940 Filed 11-27-12; 11:15 am]

BILLING CODE 6335-01-P